ENVIRONMENTAL PROTECTION AGENCY

[FRL-8170-1; Docket No. EPA-HQ-ORD-2006-0260]

Science Assessment for Sulfur Oxides

AGENCY: Environmental Protection Agency (EPA).

ACTION: Notice; Call for Information.

SUMMARY: The U.S. Environmental Protection Agency (EPA) is undertaking to update and revise, where appropriate, the air quality criteria for sulfur oxides (SOˣ), last addressed in EPA/600/FP-93/002, “Supplement to the Second Addendum (1986) to Air Quality Criteria for Particulate Matter and Sulfur Oxides (1982): Assessment of New Findings on Sulfur Dioxide Acute Exposure Health Effects in Asthmatic Individuals,” published in August 1994 by the Office of Research and Development, National Center for Environmental Assessment. Interested parties are invited to assist the EPA in developing and refining the scientific information base for updating this assessment of scientific information for sulfur oxides by submitting research studies that have been published, accepted for publication, or presented at a public scientific meeting. Areas where additional new information will be particularly useful to EPA for this project are described in the SUPPLEMENTARY INFORMATION section of this notice.

DATES: All materials submitted under this call for information should be received on or before June 15, 2006.

ADDRESSES: Submit materials, identified by Docket ID No. EPA-HQ-ORD-2006-0260, by one of the following methods:

• http://www.regulations.gov: Follow the on-line instructions for submitting comments.

• E-mail: ORD.Docket@epa.gov.

• Fax: 202-566-1753; Office of Environmental Information (OEI) Docket in the Headquarters EPA Docket Center.

• Mail: Office of Environmental Information (OEI) Docket (Mail Code 2822T), U.S. Environmental Protection Agency, 1200 Pennsylvania Avenue, NW., Washington, DC 20460.

• Hand Delivery: The Office of Environmental Information (OEI) Docket is located in the EPA Headquarters Docket Center, Room B102 EPA West Building, 1301 Constitution Ave., NW., Washington, DC. The EPA Docket Center Public Reading Room is open from 8:30 a.m. to 4:30 p.m., Monday through Friday, excluding legal holidays. The telephone number for the public Reading Room is 202-566-1744, and the telephone number for the OEI Docket is 202-566-1752. Such deliveries are only accepted during the Docket's normal hours of operation, and special arrangements should be made for deliveries of boxed information.

If you provide information in writing, please submit one unbound original, with pages numbered consecutively, and three copies. For attachments, provide an index, number pages consecutively with the main text, and submit an unbound original and three copies.

Instructions: Direct your materials to Docket ID No. EPA-HQ-ORD-2006-0260. It is EPA's policy to include all submitted materials in the public docket without change and to make the materials available online at http://www.regulations.gov, including any personal information provided, unless the included information is claimed as Confidential Business Information (CBI) or other information whose disclosure is restricted by statute. Do not submit information that you consider to be CBI or otherwise protected through http://www.regulations.gov or e-mail. The http://www.regulations.gov Web site is an “anonymous access” system, which means EPA will not know your identity or contact information unless you provide it within the submitted material. If you submit information directly to EPA by e-mail without going through http://www.regulations.gov, your e-mail address will be automatically captured and included as part of the information that is placed in the public docket and made available on the Internet. If you submit materials electronically, EPA recommends that you include your name and other contact information with any disk or CD-ROM you submit. If EPA cannot read your submitted material due to technical difficulties and cannot contact you for clarification, EPA may not be able to consider your submission. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other material, such as copyrighted material, is publicly available only in hard copy. Publicly available docket materials are available either electronically in http://www.regulations.gov or in hard copy at the OEI Docket in the EPA HQ Docket Center.

FOR FURTHER INFORMATION CONTACT: For technical information, contact Mary Ross, facsimile: 919-541-1818 or e-mail: ross.mary@epa.gov.

SUPPLEMENTARY INFORMATION:

A. Does This Action Apply to Me?

Section 108(a) of the Clean Air Act directs the Administrator to identify certain pollutants that “may reasonably be anticipated to endanger public health and welfare” and to issue air quality criteria for them. These air quality criteria are to “accurately reflect the latest scientific knowledge useful in indicating the kind and extent of all identifiable effects on public health or welfare which may be expected from the presence of [a] pollutant in the ambient air * * *.” Under section 109 of the Act, EPA is then to establish National Ambient Air Quality Standards (NAAQS) for each pollutant for which EPA has issued criteria. Section 109(d) of the Act subsequently requires periodic review and, if appropriate, revision of existing air quality criteria to reflect advances in scientific knowledge on the effects of the pollutant on public health and welfare. EPA is also to revise the NAAQS, if appropriate, based on the revised criteria.

SOX are one of six principal (or “criteria”) pollutants for which EPA has established national ambient air quality standards (NAAQS). Periodically, EPA reviews the scientific basis for these standards and prepares a science assessment document (historically referred to as a “criteria document”). The science assessment provides the scientific basis for additional technical and policy assessments that form the basis for EPA decisions on the adequacy of a current NAAQS and the appropriateness of new or revised standards. One of the first steps in this process is to announce the beginning of this periodic NAAQS review and the start of the development of the science assessment by requesting the public to submit scientific literature that they want to bring to the attention of the Agency. The Clean Air Scientific Advisory Committee (CASAC), a review committee of the EPA's Science Advisory Board (SAB), is mandated by the Clean Air Act with performing an independent expert scientific review of the air quality criteria. This involves review of draft(s) of EPA's science assessment document. As this process proceeds, the public will have opportunities to review and comment on draft(s) of the science assessment document for SOX. These opportunities will also be announced in the Federal Register.

B. What Should I Consider as I Prepare Materials for Submission to EPA?

Since completion of the 1994 “Supplement to the Second Addendum (1986) to Air Quality Criteria for Particulate Matter and Sulfur Oxides (1982): Assessment of New Findings on Sulfur Dioxide Acute Exposure Health Effects in Asthmatic Individuals,” EPA has continued to follow the scientific research on SOX exposure and its effects on public health and the environment and has gathered appropriate studies. The Agency is particularly interested in additional new information concerning: (1) Atmospheric science aspects (e.g., sources , emissions, atmospheric transformation and transport, air quality concentrations, patterns and trends); (2) exposure and dosimetry aspects; (3) health effects aspects, including information derived from human and animal toxicological studies of SO2 and transformation products (e.g. sulfates, sulfuric acid); and (4) ecological effects of SO2 and transformation products, such as those arising from wet and dry deposition of sulfates and/or sulfuric acid. These and other selected literature relevant to a review of the NAAQS for sulfur oxides will be assessed in the forthcoming revised science assessment for SOX. One or more drafts of the science assessment document for SOX are expected to be made available by EPA for public comment and CASAC review. After this call for information, other opportunities for submission of new peer-reviewed papers (published or in-press) will be possible as part of public comment on the draft documents that will be reviewed by CASAC.

Dated: May 3, 2006.
Peter W. Preuss,
Director, National Center for Environmental Assessment.

[FR Doc. E6-7340 Filed 5-12-06; 8:45 am]

BILLING CODE 6560-50-P